DEPARTMENT OF COMMERCE

National Oceanic and Atmospheric Administration

[RTID 0648-XD622]

South Atlantic Fishery Management Council; Public Meeting

AGENCY: National Marine Fisheries Service (NMFS), National Oceanic and Atmospheric Administration (NOAA), Commerce.

ACTION: Notice of a meeting of the South Atlantic Fishery Management Council's Law Enforcement Advisory Panel.

SUMMARY: The South Atlantic Fishery Management Council's (Council) will hold a meeting of the Law Enforcement Advisory Panel (AP) January 29-30, 2024, in Charleston, SC.

DATES: The Law Enforcement AP will meet from 1 p.m. until 5 p.m. on January 29, and from 9 a.m. until 5 p.m. on January 30, 2024.

ADDRESSES: Meeting address: The meeting will be held at the Crowne Plaza, 4831 Tanger Outlet Blvd., North Charleston, SC 29418.

FOR FURTHER INFORMATION CONTACT: Kim Iverson, Public Information Officer, SAFMC; phone: (843) 571-4366 or toll free: (866) SAFMC-10; fax: (843) 769-4520; email: kim.iverson@safmc.net.

SUPPLEMENTARY INFORMATION: Meeting information, including the agenda, overview, briefing book materials, and an online public comment form will be posted on the Council's website at: https://safmc.net/advisory-panel-meetings/ 2 weeks prior to the meeting. The meeting is open to the public and available via webinar as it occurs. The webinar registration link will be available from the Council's website. Public comment will also be taken during the meeting.

The agenda for the Law Enforcement AP meeting includes: an update on developing amendments; discussion of enforcement components of amendments for wreckfish management (Snapper Grouper Amendment 48), recreational permitting for the Snapper Grouper Fishery (Snapper Grouper Amendment 46), and on-demand gear for black sea bass pots (Snapper Grouper Regulatory Amendment 36). The AP will also receive an overview and discuss tournament sales of king mackerel; updates on compliance with for-hire reporting, descending devices, and protected areas; and general updates from Federal and state enforcement representatives. The AP will provide input and recommendations on agenda items for the Council's consideration and address other items as needed.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: January 5, 2024.
Rey Israel Marquez,
Acting Deputy Director, Office of Sustainable Fisheries, National Marine Fisheries Service.

[FR Doc. 2024-00364 Filed 1-9-24; 8:45 am]

BILLING CODE 3510-22-P